FEDERAL COMMUNICATIONS COMMISSION

47 CFR Part 54

[WC Docket No. 21-31; Report No. 3219; FR ID 247697]

Petitions for Reconsideration of Action in Rulemaking Proceeding

AGENCY: Federal Communications Commission.

ACTION: Petition for Reconsideration.

SUMMARY: Petitions for Reconsideration (Petitions) have been filed in the Commission's proceeding by Sasha Horwitz, on behalf of Los Angeles Unified School District, and Kristen Corra, on behalf of Schools, Health & Libraries Broadband (SHLB) Coalition, the Open Technology Institute at New America, the Benton Institute for Broadband & Society, the Consortium for School Networking, and Common Sense Media.

DATES: Oppositions to the Petitions must be filed on or before October 15, 2024. Replies to oppositions to the Petitions must be filed on or before October 25, 2024.

ADDRESSES: Federal Communications Commission, 45 L Street NE, Washington, DC 20554.

FOR FURTHER INFORMATION CONTACT: For additional information on this proceeding, contact Molly O'Conor of the Telecommunications Access Policy Division, Wireline Telecommunications Bureau, at Molly.OConor@fcc.gov or (202) 418-7400.

SUPPLEMENTARY INFORMATION: This is a summary of the Commission's document, Report No. 3219, released September 24, 2024. The full text of the Petitions can be accessed online via the Commission's Electronic Comment Filing System at: http://fcc.gov/ecfs/. The Commission will not send a Congressional Review Act (CRA) submission to Congress or the Government Accountability Office pursuant to the CRA, 5 U.S.C. 801(a)(1)(A), because no rules are being adopted by the Commission.

Subject: Addressing the Homework Gap through the E-Rate Program (WC Docket No. 21-31).

Number of Petitions Filed: 2.

Federal Communications Commission.
Marlene Dortch,
Secretary, Office of the Secretary.

[FR Doc. 2024-22399 Filed 9-27-24; 8:45 am]

BILLING CODE 6712-01-P